DEPARTMENT OF LABOR

Employment and Training Administration

[TA-W-75,162]

Pisgah Yarn and Dyeing Company Including On-Site Leased Workers From Manpower, Inc., Old Fort, NC; Notice of Revised Determination on Reconsideration

On May 16, 2011, the Department issued a Notice of Affirmative Determination Regarding Application for Reconsideration for the workers and former workers of Pisgah Yarn & Dyeing Company, Old Fort, North Carolina (subject firm) to apply for Trade Adjustment Assistance. The Department's Notice was published in the Federal Register on May 25, 2011 (76 FR 30392). Workers are engaged in employment related to the production of cotton yarn. The worker group includes on-site leased workers from Manpower, Inc.

During the reconsideration investigation, the Department received new information that revealed that there has been an acquisition from a foreign country by the workers' firm of production of like or directly competitive articles.

Criterion I has been met because a significant number or proportion of workers at the subject firm have become totally or partially separated or are threatened with such separation.

Criterion II has been met because there has been an acquisition from a foreign country by the workers' firm of production of articles that are like or directly competitive with those produced by the subject firm.

Criterion III has been met because the acquisition of cotton yarn contributed importantly to the workers' separation or threat of separation at the subject firm.

Conclusion

After careful review of the additional facts obtained on reconsideration, I determine that workers and former workers of the subject firm, who are engaged in employment related to the production of cotton yarn, meet the worker group certification criteria under Section 222(a) of the Act, 19 U.S.C. 2272(a). In accordance with Section 223 of the Act, 19 U.S.C. 2273, I make the following certification:

”All workers of Pisgah Yarn & Dyeing Company, including on-site leased workers from Manpower, Inc., Old Fort, North Carolina, who became totally or partially separated from employment on or after January 28, 2010, through two years from the date of this revised certification, and all workers in the group threatened with total or partial separation from employment on date of certification through two years from the date of certification, are eligible to apply for adjustment assistance under Chapter 2 of Title II of the Trade Act of 1974, as amended.”

Signed in Washington, DC, this 28th day of June, 2011.
Del Min Amy Chen,
Certifying Officer, Office of Trade Adjustment Assistance.

[FR Doc. 2011-17092 Filed 7-7-11; 8:45 am]

BILLING CODE 4510-FN-P